CORPORATION FOR NATIONAL AND COMMUNITY SERVICE

Notice of Establishment of the White House Council for Community Solutions

AGENCY: Corporation for National and Community Service (CNCS).

ACTION: Notice of establishment of the White House Council for Community Solutions.

SUMMARY: Pursuant to the Federal Advisory Committee Act, as amended (5 U.S.C. Appendix 2), the Chief Executive Officer, CNCS, announces the establishment of the White House Council for Community Solutions by Presidential Executive Order. The Council will focus on highlighting ways to enlist more Americans and leaders across sectors to help catalyze change in communities and have an impact in addressing our nation's important goals in education, youth development and employment.

DATES: The White House Council for Community Solutions was established on December 14, 2010 by Presidential Executive Order.

ADDRESSES: The public is invited to submit written statements to the Council by electronic mail: Send written statements to the Council's electronic mailbox at WhiteHouseCouncil@cns.gov.

The public can follow the Council's work by visiting its Web site: http://www.serve.gov/communitysolutions.

FOR FURTHER INFORMATION CONTACT: Susannah Washburn, Executive Director, White House Council for Community Solutions, Corporation for National and Community Service, 1201 New York Avenue, NW., Washington, DC 20525, swashburn@cns.gov.

SUPPLEMENTARY INFORMATION: In accordance with Section 10(a) of the Federal Advisory Committee Act, 5 U.S.C. App. II, § 10(a), and the regulations thereunder, Susannah Washburn, Designated Federal Officer of the Council, has ordered publication of this Establishment Notice that the White House Council for Community Solutions was established on December 14, 2010 by Executive Order.

I. Background and Authority

The Council is governed by the Federal Advisory Committee Act (5 U.S.C. Appendix 2), which sets forth standards for the formation and use of advisory committees. The White House Council for Community Solutions shall advise the President on how to engage individuals, academia, non-profits, philanthropy and business to support innovative community solutions that are having a real impact in solving our Nation's pressing social issues relating to education, youth development, and employment. This new Presidential Council enlists leaders from a variety of sectors—businesses, non-profit and philanthropic organizations, universities, and community groups—to encourage the growth and maximize the impact of innovative, community-developed solutions.

II. Structure

The Council shall consist of not more than 30 members, including its Chair. All Council members shall be appointed by the President. Members shall not be Federal Government employees. In selecting individuals for appointment to the Council, appropriate consideration will be given to selecting leaders from a variety of sectors. The composition of the Council will reflect a diverse set of perspectives from across the country. Each member of the Council will be appointed to serve a term of two years. The members of the Council will be Special Government Employees (SGEs).

Meetings shall be held approximately 4 times a year and will be coordinated by the Designated Federal Officer or designee who shall approve the agenda and shall be present at all meetings. A vacancy on the Council shall be filled in the manner in which the original appointment was made and shall be subjected to any conditions that applied with respect to the original appointment. An individual chosen to fill a vacancy shall be appointed for the remainder of the term of the member replaced. The vacancy shall not affect the power of the remaining members to execute the duties of the Council.

All members of the White House Council for Community Solutions shall adhere to the conflict of interest rules applicable to Special Government Employees as such employees are defined in 18 U.S.C. 202(a). These rules include relevant provisions in 18 U.S.C. related to criminal activity, Standards of Ethical Conduct for Employees of the Executive Branch (5 CFR part 2635), and Executive Order 12674 (as modified by Executive Order 12731). Management and support services shall be provided by the Corporation for National and Community Service (CNCS).

December 14, 2010.
Susannah Washburn,
Executive Director.

[FR Doc. 2010-31965 Filed 12-20-10; 8:45 am]

BILLING CODE 6050-$$-P